FEDERAL RESERVE SYSTEM

Formations of, Acquisitions by, and Mergers of Savings and Loan Holding Companies

The companies listed in this notice have applied to the Board for approval, pursuant to the Home Owners' Loan Act (12 U.S.C. 1461 et seq.) (HOLA), Regulation LL (12 CFR part 238), and Regulation MM (12 CFR part 239), and all other applicable statutes and regulations to become a savings and loan holding company and/or to acquire the assets or the ownership of, control of, or the power to vote shares of a savings association.

The applications listed below, as well as other related filings required by the Board, if any, are available for immediate inspection at the Federal Reserve Bank indicated. The applications also will be available for inspection at the offices of the Board of Governors. Interested persons may express their views in writing on whether the proposed transaction complies with the standards enumerated in the HOLA (12 U.S.C. 1467a(e)).

Unless otherwise noted, comments regarding each of these applications must be received at the Reserve Bank indicated or the offices of the Board of Governors Ann E. Misback, Secretary of the Board, 20th Street and Constitution Avenue NW, Washington, DC 20551-0001, not later than January 15, 2020.

A. Federal Reserve Bank of Chicago (Colette A. Fried, Assistant Vice President) 230 South LaSalle Street, Chicago, Illinois 60690-1414:

1. 1895 Bancorp of Wisconsin, MHC, and 1895 Bancorp of Wisconsin, Inc., both of Greenfield, Wisconsin; a savings and loan holding company and a mid-tier savings and loan holding company, respectively, to engage de novo in holding, managing, or liquidating assets owned or acquired from a savings association, in connection with the transfer of branch property to 1895 Bancorp of Wisconsin, Inc.

Board of Governors of the Federal Reserve System, December 26, 2019.
Ann Misback,
Secretary of the Board.

[FR Doc. 2019-28281 Filed 12-31-19; 8:45 am]

BILLING CODE P